NUCLEAR REGULATORY COMMISSION

[NRC-2020-0053]

Biweekly Notice; Applications and Amendments to Facility Operating Licenses and Combined Licenses Involving No Significant Hazards Considerations

AGENCY: Nuclear Regulatory Commission.

ACTION: Biweekly notice.

SUMMARY: Pursuant to section 189.a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person. This biweekly notice includes all amendments issued, or proposed to be issued, from January 28, 2020, to February 10, 2020. The last biweekly notice was published on February 11, 2020.

DATES: Comments must be filed by March 26, 2020. A request for a hearing or petitions for leave to intervene must be filed by April 27, 2020.

ADDRESSES: You may submit comments by any of the following methods (unless this document describes a different method for submitting comments on a specific subject):

• Federal Rulemaking Website: Go to https://www.regulations.gov and search for Docket ID NRC-2020-0053. Address questions about NRC Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, 301-415-5411, email: shirley.rohrer@nrc.gov, U.S. Nuclear Regulatory Commission, Washington DC 20555-0001.

SUPPLEMENTARY INFORMATION:

I. Obtaining Information and Submitting Comments

A. Obtaining Information

Please refer to Docket ID NRC-2020-0053, facility name, unit number(s), docket number(s), application date, and subject when contacting the NRC about the availability of information for this action. You may obtain publicly-available information related to this action by any of the following methods:

• Federal Rulemaking Website: Go to https://www.regulations.gov and search for Docket ID NRC-2020-0053.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2020-0053, facility name, unit number(s), docket number(s), application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensee's analyses provided, consistent with title 10 of the Code of Federal Regulations (10 CFR) Section 50.91 is sufficient to support the proposed determination that these amendment requests involve NSHC. Under the Commission's regulations in 10 CFR 50.92, operation of the facility in accordance with the proposed amendment would not (1) involve a significant increase in the probability or consequences of an accident previously evaluated, or (2) create the possibility of a new or different kind of accident from any accident previously evaluated; or (3) involve a significant reduction in a margin of safety.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves NSHC. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final NSHC determination, any hearing will take place after issuance. The Commission expects that the need to take action on an amendment before 60 days have elapsed will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensee's proposed NSHC determination. For further details with respect to these license amendment applications, see the application for amendment which is available for public inspection in ADAMS and at the NRC's PDR. For additional direction on accessing information related to this document, see the “Obtaining Information and Submitting Comments” section of this document.

Entergy Operations, Inc.; Arkansas Nuclear One, Unit 2; Pope County, AR
Application Date | December 18, 2019.
ADAMS Accession No. | ML19352F266.
Location in Application of NSHC | Pages 18-19 of the Enclosure.
Brief Description of Amendments | The proposed amendment would modify the individual and average control element assembly (CEA) drop times established in Arkansas Nuclear One, Unit 2 Technical Specification 3.1.3.4, “CEA Drop Time.”
Proposed Determination | NSHC.
Name of Attorney for Licensee, Mailing Address | Anna Vinson Jones, Senior Counsel, Entergy Services, Inc., 101 Constitution Avenue NW, Suite 200 East, Washington, DC 20001.
Docket Nos. | 50-368.
NRC Project Manager, Telephone Number | Thomas Wengert, 301-415-4037.
Entergy Operations, Inc.; Arkansas Nuclear One, Unit 2; Pope County, AR
Application Date | December 16, 2019.
ADAMS Accession No. | ML19350B324.
Location in Application of NSHC | Pages 37-38 of the Enclosure.
Brief Description of Amendments | The proposed amendment would revise several technical specification (TS) requirements by the addition, deletion, modification, or relocation of certain TS limiting conditions for operation, actions, and surveillance requirements, to enhance consistency with NUREG-1432, “Standard Technical Specifications—Combustion Engineering Plants,” Revision 4 (ADAMS Accession Nos. ML12102A165 and ML12102A169), and the NRC's “Final Policy Statement on Technical Specifications Improvements for Nuclear Power Reactors,” published in the Federal Register on July 22, 1993 (58 FR 39132). Relocated TSs would be placed in the ANO-2 Technical Requirements Manual or the associated TS Bases.
Proposed Determination | NSHC.
Name of Attorney for Licensee, Mailing Address | Anna Vinson Jones, Senior Counsel, Entergy Services, Inc., 101 Constitution Avenue NW, Suite 200 East, Washington, DC 20001.
Docket Nos. | 50-368.
NRC Project Manager, Telephone Number | Thomas Wengert, 301-415-4037.
Nine Mile Point Nuclear Station and Exelon Generation Company, LLC; Nine Mile Point Nuclear Station, Unit 2; Oswego County, NY
Application Date | December 26, 2019.
ADAMS Accession No. | ML19360A145.
Location in Application of NSHC | Pages 25, 26, and 27 of the Enclosure.
Brief Description of Amendments | The proposed amendment would permit the implementation of a risk-informed process for the categorization and treatment of structures, systems, and components, subject to special treatment controls.
Proposed Determination | NSHC.
Name of Attorney for Licensee, Mailing Address | Jason Zorn, Associate General Counsel, Exelon Generation Company, LLC, 101 Constitution Ave. NW, Suite 400, Washington, DC 20001.
Docket Nos. | 50-410.
NRC Project Manager, Telephone Number | Michael L. Marshall, Jr., 301-415-2871.
Northern States Power Company—Minnesota; Prairie Island Nuclear Generating Plant, Unit Nos. 1 and 2; Goodhue County, MN
Application Date | December 16, 2019.
ADAMS Accession No. | ML19350C188.
Location in Application of NSHC | Attachment 1, pages 13 and 14.
Brief Description of Amendments | The proposed amendment would modify the Prairie Island Nuclear Generating Plant, Unit Nos. 1 and 2, technical specifications (TSs) to permit the use of risk informed completion times in accordance with TS Task Force (TSTF) traveler TSTF-505, Revision 2, “Provide Risk-Informed Extended Completion Times—RITSTF Initiative 4b.”
Proposed Determination | NSHC.
Name of Attorney for Licensee, Mailing Address | Peter M. Glass, Assistant General Counsel, Xcel Energy, 414 Nicollet Mall—401-8, Minneapolis, MN 55401.
Docket Nos. | 50-282, 50-306.
NRC Project Manager, Telephone Number | Robert Kuntz, 301-415-3733.
Northern States Power Company—Minnesota; Prairie Island Nuclear Generating Plant, Unit Nos. 1 and 2; Goodhue County, MN
Application Date | December 23, 2019.
ADAMS Accession No. | ML19357A142.
Location in Application of NSHC | Enclosure pages 4-6.
Brief Description of Amendments | The proposed amendment would modify the Prairie Island Nuclear Generating Plant, Unit Nos. 1 and 2, technical specifications (TSs) to adopt TS Task Force (TSTF) traveler TSTF-547, “Clarification of Rod Position Requirements.”
Proposed Determination | NSHC.
Name of Attorney for Licensee, Mailing Address | Peter M. Glass, Assistant General Counsel, Xcel Energy, 414 Nicollet Mall—401-8, Minneapolis, MN 55401.
Docket Nos. | 50-282, 50-306.
NRC Project Manager, Telephone Number | Robert Kuntz, 301-415-3733.
Southern Nuclear Operating Company, Inc.; Joseph M. Farley Nuclear Plant, Units 1 and 2; Houston County, AL
Application Date | December 12, 2019.
ADAMS Accession No. | ML19346E959.
Location in Application of NSHC | Pages E6-E8 of the application.
Brief Description of Amendments | The proposed amendment would correct Technical Specification (TS) 3.3.1, “Reactor Trip System (RTS) Instrumentation,” by removing a reference to “RTP” [Rated Thermal Power]. The proposed amendment also revises TS 3.3.7, “Control Room Emergency Filtration/Pressurization System (CREFS) Actuation Instrumentation” to change the units for the control room ventilation radiation isolation trip setpoint from counts per minute to an equivalent setpoint in units of microcuries per cubic centimeter with a clarifying footnote. The licensee states the changes are considered administrative in nature.
Proposed Determination | NSHC.
Name of Attorney for Licensee, Mailing Address | Millicent Ronnlund, Vice President and General Counsel, Southern Nuclear Operating Co., Inc., P.O. Box 1295, Birmingham, AL 35201-1295.
Docket Nos. | 50-348, 50-364.
NRC Project Manager, Telephone Number | Shawn Williams, 301-415-1009.
Susquehanna Nuclear, LLC and Allegheny Electric Cooperative, Inc.; Susquehanna Steam Electric Station, Units 1 and 2; Susquehanna County, PA
Application Date | January 2, 2020.
ADAMS Accession No. | ML20002B254.
Location in Application of NSHC | Pages 15-17 of Enclosure 1.
Brief Description of Amendments | The proposed amendment would modify the current licensing basis for the design-basis accident (DBA) loss-of-coolant accident (LOCA) analysis described in the Final Safety Analysis Report. The proposed changes would utilize an updated version of the ORIGEN code, introduce a new source term to account for the introduction of ATRIUM 11 fuel, use new inputs/assumptions that decrease the assumed emergency safety feature leakage into secondary containment, increase the assumed maximum allowable standby gas treatment system exhaust flow rate from secondary containment, and increase the allowed control structure unfiltered inleakage that is assumed in the DBA LOCA dose analysis. As a result, the proposed amendment would modify Technical Specification (TS) 5.5.2, “Primary Coolant Sources Outside Containment,” and the TS Bases for TS 3 .6.4.1, “Secondary Containment.”
Proposed Determination | NSHC.
Name of Attorney for Licensee, Mailing Address | Damon D. Obie, Esq, 835 Hamilton St., Suite 150, Allentown, PA 18101.
Docket Nos. | 50-387, 50-388.
NRC Project Manager, Telephone Number | Sujata Goetz, 301-415-8004.
Tennessee Valley Authority; Watts Bar Nuclear Plant, Units 1 and 2; Rhea County, TN
Application Date | December 6, 2019.
ADAMS Accession No. | ML19340B773.
Location in Application of NSHC | Pages E18 and E19 of the Enclosure.
Brief Description of Amendments | The proposed amendments would modify Technical Specification 3.6.15 by deleting existing Condition B and would revise the acceptance criteria for annulus pressure in Surveillance Requirement 3.6.15.1.
Proposed Determination | NSHC.
Name of Attorney for Licensee, Mailing Address | Sherry Quirk, Executive VP and General Counsel, Tennessee Valley Authority, 400 West Summit Hill Drive, WT 6A, Knoxville, TN 37902.
Docket Nos. | 50-390, 50-391.
NRC Project Manager, Telephone Number | Perry Buckberg, 301-415-1383.
Tennessee Valley Authority; Watts Bar Nuclear Plant, Units 1 and 2; Rhea County, TN
Application Date | December 17, 2019.
ADAMS Accession No. | ML19353C089.
Location in Application of NSHC | Pages E7-E8 of Enclosure.
Brief Description of Amendments | The proposed amendments would delete Technical Specification 3.8.1, “AC [Alternating Current] Sources—Operating,” Surveillance Requirement 3.8.1.22 to verify the operability of the automatic transfer from a Unit Service Station Transformer to a Common Station Service Transformer A or B at the associated unit board.
Proposed Determination | NSHC.
Name of Attorney for Licensee, Mailing Address | Sherry Quirk, Executive VP and General Counsel, Tennessee Valley Authority, 400 West Summit Hill Drive, WT 6A, Knoxville, TN 37902.
Docket Nos. | 50-390, 50-391.
NRC Project Manager, Telephone Number | Kimberly Green, 301-415-1627.
Tennessee Valley Authority; Watts Bar Nuclear Plant, Units 1 and 2; Rhea County, TN
Application Date | January 17, 2020.
ADAMS Accession No. | ML20017A341.
Location in Application of NSHC | Pages E8-E10 of Enclosure.
Brief Description of Amendments | The proposed amendments would revise Technical Specification 3.3.5, “LOP [Loss of Power] DG [Diesel-Generator] Start Instrumentation,” Condition C, to require restoration of inoperable channels to operable status within one hour when one or more channels per bus are inoperable.
Proposed Determination | NSHC.
Name of Attorney for Licensee, Mailing Address | Sherry Quirk, Executive VP and General Counsel, Tennessee Valley Authority, 400 West Summit Hill Drive, WT 6A, Knoxville, TN 37902.
Docket Nos. | 50-390, 50-391.
NRC Project Manager, Telephone Number | Kimberly Green, 301-415-1627.
Vistra Operations Company LLC; Comanche Peak Nuclear Power Plant, Unit Nos. 1 and 2; Somervell County, TX
Application Date | November 7, 2019, as supplemented January 16, 2020.
ADAMS Accession No. | ML19325C595, ML20028D385.
Location in Application of NSHC | Pages 2 and 3 of Attachment 1 to November 7, 2019, document.
Brief Description of Amendments | The proposed amendments would adopt Technical Specifications Task Force (TSTF) Traveler TSTF-563, “Revise Instrument Testing Definitions to Incorporate the Surveillance Frequency Control Program.” Specifically, the proposed amendments revise the technical specification definitions for Channel Calibration, Channel Operational Test, and Trip Actuating Device Operational Test.
Proposed Determination | NSHC.
Name of Attorney for Licensee, Mailing Address | Timothy P. Matthews, Esq., Morgan, Lewis and Bockius, 1111 Pennsylvania Avenue NW, Washington, DC 20004.
Docket Nos. | 50-445, 50-456.
NRC Project Manager, Telephone Number | Dennis Galvin, 301-415-6256.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action, see (1) the applications for amendment, (2) the amendment, and (3) the Commission's related letter, Safety Evaluation, and/or Environmental Assessment as indicated. All of these items can be accessed as described in the “Obtaining Information and Submitting Comments” section of this document.

Arizona Public Service Company, et al; Palo Verde Nuclear Generating Station, Units 1, 2, and 3; Maricopa County, AZ
Date Issued | February 10, 2020.
ADAMS Accession No. | ML20016A458.
Amendment Nos. | 211 (Unit 1), 211 (Unit 2), 211 (Unit 3).
Brief Description of Amendments. | The amendments extended the implementation time from February 23, 2020, to August 31, 2020, for the NRC-approved License Amendment Nos. 209, 209, and 209 for the Palo Verde Nuclear Generating Station, Units 1, 2, and 3, issued on May 29, 2019 (ADAMS Accession No. ML19085A525), associated with risk-informed completion times in accordance with Nuclear Energy Institute (NEI) 06-09, Revision 0-A, “Risk-Informed Technical Specification Initiative 4b, Risk-Managed Technical Specifications (RMTS) Guidelines.” The licensee requested this extension due to unforeseen circumstances.
Docket Nos. | 50-528, 50-529, 50-530.
Dominion Energy Nuclear Connecticut, Inc.; Millstone Power Station, Unit No. 2; Waterford, CT
Date Issued | January 30, 2020.
ADAMS Accession No. | ML19340A025.
Amendment Nos. | 337.
Brief Description of Amendments | The amendment added a new license condition to the Millstone Power Station, Unit No. 2, Renewed Facility Operating License to allow the implementation of the risk-informed categorization and treatment of structures, systems, and components of nuclear power reactors in accordance with 10 CFR 50.69.
Docket Nos. | 50-336.
Duke Energy Progress, LLC; Brunswick Steam Electric Plant, Units 1 and 2; Brunswick County, NC
Date Issued | January 8, 2020.
ADAMS Accession No. | ML19316B057.
Amendment Nos. | 297 (Unit 1) and 325 (Unit 2).
Brief Description of Amendments | The amendments modified Technical Specification (TS) 3.4.3, “Safety/Relief Valves (SRVs),” Surveillance Requirement (SR) 3.4.3.2 and TS 3.5.1, “ECCS [Emergency Core Cooling System]—Operating,” SR 3.5.1.11. The amendments replaced the current requirement in these TS SRs to verify the SRVs open when manually actuated with an alternate requirement that verifies that the SRVs are capable of being opened.
Docket Nos. | 50-324, 50-325.
Energy Northwest; Columbia Generating Station; Benton County, WA
Date Issued | February 6, 2020.
ADAMS Accession No. | ML19337C368.
Amendment Nos. | 255.
Brief Description of Amendments | The amendment revised the Columbia Final Safety Analysis Report to allow use of the main control room chilled water system or the emergency service water system as acceptable cooling sources in support of the main control room air conditioning system.
Docket Nos. | 50-397.
Entergy Operations, Inc.; Arkansas Nuclear One, Unit 2; Pope County, AR
Date Issued | January 29, 2020.
ADAMS Accession No. | ML19231A297.
Amendment Nos. | 318.
Brief Description of Amendments | The amendment revised the Arkansas Nuclear One, Unit 2 (ANO-2) technical specifications (TSs) by establishing Actions and Allowable Outage Times applicable to conditions where the ANO-2 containment building sump is inoperable. Specifically, the amendment revised Surveillance Requirement 4.5.2 in TS Section ¾.5, “Emergency Core Cooling Systems (ECCS),” and TS 3.6.2.3, “Containment Cooling System.” The amendment also added new TS 3.6.4.1, “Containment Sump,” in TS Section ¾.6, “Containment Systems.”
Docket Nos. | 50-368.
Indiana Michigan Power Company; Donald C. Cook Nuclear Plant, Units 1 and 2; Berrien County, MI
Date Issued | January 31, 2020.
ADAMS Accession No. | ML19347B376.
Amendment Nos. | 350 (Unit 1) and 331 (Unit 2).
Brief Description of Amendments | The amendments revised the Donald C. Cook Nuclear Plant Technical Specification 5.5.5, “Reactor Coolant Pump [RCP] Flywheel Inspection Program,” in accordance with Technical Specifications Task Force (TSTF) Traveler TSTF-421-A, “Revision to RCP Flywheel Inspection Program (WCAP-15666),” Revision 0.
Docket Nos. | 50-315, 50-316.
Nebraska Public Power District; Cooper Nuclear Station; Nemaha County, NE
Date Issued | January 28, 2020.
ADAMS Accession No. | ML19352G194.
Amendment Nos. | 264.
Brief Description of Amendments | The amendment revised the Cooper Nuclear Station Technical Specifications based on Technical Specifications Task Force (TSTF) Traveler TSTF-447, “Elimination of Hydrogen Recombiners and Change to Hydrogen and Oxygen Monitors.”
Docket Nos. | 50-298.
Southern Nuclear Operating Company, Inc.; Joseph M. Farley Nuclear Plant, Units 1 and 2; Houston County, AL, Southern Nuclear Operating Company, Inc.; Edwin I. Hatch Nuclear Plant, Units 1 and 2; Appling County, GA, Southern Nuclear Operating Company, Inc.; Vogtle Electric Generating Plant, Units 1 and 2; Burke County, GA
Date Issued | January 29, 2020.
ADAMS Accession No. | ML19337C322.
Amendment Nos. | Farley—226 (Unit 1) and 223 (Unit 2); Hatch—303 (Unit 1) and 248 (Unit 2); Vogtle—201 (Unit 1) and 184 (Unit 2).
Brief Description of Amendments | The amendments adopted Technical Specifications Task Force (TSTF) Traveler TSTF-563, “Revise Instrument Testing Definitions to Incorporate the Surveillance Frequency Control Program.” TSTF-563 revises the Technical Specification (TS) definitions of Channel Calibration and Channel Functional Test in the Hatch TS, and the definitions of Channel Calibration, Channel Operational Test (COT), and Trip Actuating Device Operational Test (TADOT) in the Farley and Vogtle TSs. The Farley, Hatch, and Vogtle Channel Calibration definition and the Hatch Channel Functional Test definition currently permit performance by means of any series of sequential, overlapping, or total channel steps. The Farley and Vogtle definitions of COT and TADOT are revised to explicitly permit performance by means of any series of sequential, overlapping, or total channel steps. The Channel Calibration, Channel Functional Test, COT, and TADOT definitions are revised to allow the required frequency for testing the components or devices in each step to be determined in accordance with the Surveillance Frequency Control Program.
Docket Nos. | 50-321, 50-348, 50-364, 50-366, 50-424, 50-425.
Southern Nuclear Operating Company, Inc.; Vogtle Electric Generating Plant, Unit 4; Burke County, GA
Date Issued | February 3, 2020.
ADAMS Accession No. | ML20013G569.
Amendment Nos. | 173.
Brief Description of Amendments | The amendment authorized changes to the Vogtle Electric Generating Plant (VEGP) Unit 4 Updated Final Safety Analysis Report in the form of departures from the incorporated plant-specific Design Control Document Tier 2* information. The license amendment authorized Southern Nuclear Operating Company to revise the provided area of horizontal and vertical steel reinforcement for VEGP Unit 4 Wall L from elevation 117′-6″ to 135′-3″; and revise the provided area of horizontal steel reinforcement for VEGP Unit 4 Wall 7.3 from elevation 117′-6″ to 135′-3″.
Docket Nos. | 52-026.
Southern Nuclear Operating Company, Inc.; Vogtle Electric Generating Plant, Units 1 and 2; Burke County, GA
Date Issued | January 30, 2020.
ADAMS Accession No. | ML19346E463.
Amendment Nos. | 202/185.
Brief Description of Amendments | The amendments revised the actions of Technical Specification (TS) 3.7.8, “Nuclear Service Cooling Water (NSCW) System,” TS 3.8.1, “AC Sources-Operating,” TS 3.8.4, “DC Sources—Operating,” TS 3.8.7, “Inverters—Operating,” and TS 3.8.9, “Distribution Systems—Operating.” The amendments modified action end states for the subject TSs in conditions where more than one safety-related train is inoperable or the electrical power system is significantly degraded. Specifically, if the related required action statements are not met, then instead of requiring the plant to achieve Hot Shutdown (i.e., Mode 4), the end state of Cold Shutdown (i.e., Mode 5) is required.
Docket Nos. | 50-424, 50-425.
Southern Nuclear Operating Company, Inc.; Vogtle Electric Generating Plant, Units 3 and 4; Burke County, GA
Date Issued | January 2, 2020.
ADAMS Accession No. | ML19339H089.
Amendment Nos. | 171 (Unit 3) and 169 (Unit 4).
Brief Description of Amendments | The amendments revised the Combined License (COL) Numbers NPF-91 and NPF-92 for Vogtle Electric Generating Plant, Units 3 and 4, and Updated Final Safety Analysis Report (UFSAR). Specifically, the requested amendments authorized changes to eliminate the performance of the Pressurizer Surge Line Stratification Evaluation first plant only test during the hot functional testing and during the first operating cycle, by revising COL Condition 2.D.(2)(a)1 and related UFSAR Tier 2 information. This notice is being reissued in its entirety to correct an error in a previously published notice (January 28, 2020; 85 FR 5056). The previous notice incorrectly listed Units 1 and 2 instead of Units 3 and 4 for this amendment.
Docket Nos. | 52-025, 52-026.
Southern Nuclear Operating Company, Inc.; Vogtle Electric Generating Plant, Units 3 and 4; Burke County, GA
Date Issued | January 8, 2020.
ADAMS Accession No. | ML19343C013.
Amendment Nos. | 172 (Unit 3) and 170 (Unit 4).
Brief Description of Amendments | The amendments consist of changes to the Combined License Appendix A, Technical Specifications (TS) 3.7.11, Spent Fuel Pool Boron Concentration, Applicability and Required Actions to eliminate an allowance to exit the Applicability of Limiting Condition of Operation 3.7.11, Spent Fuel Pool Boron Concentration, once a spent fuel pool storage verification had been performed. The amendments also eliminated TS 3.7.11 Required Action A.2.2, which provides an option to perform a spent fuel pool storage verification in lieu of restoring spent fuel pool boron concentration to within limits.
Docket Nos. | 52-025, 52-026.

Previously Published Notice of Consideration of Issuance of Amendments to Facility Operating Licenses and Combined Licenses, Proposed No Significant Hazards Consideration Determination, and Opportunity for a Hearing

The following notices were previously published as separate individual notices. The notice content was the same as above. They were published as individual notices either because time did not allow the commission to wait for this biweekly notice or because the action involved exigent circumstances. They are repeated here because the biweekly notice lists all amendments issued or proposed to be issued involving no significant hazards consideration.

For details, including the applicable notice period, see the individual notice in the Federal Register on the day and page cited.

Exelon FitzPatrick, LLC and Exelon Generation Company, LLC; James A. FitzPatrick Nuclear Power Plant, LLC; Oswego County, NY
Application Date | January 23, 2020.
ADAMS Accession No. | ML20023A362.
Brief Description of Amendment | The amendment would adopt Technical Specifications Task Force (TSTF) Traveler TSTF-568, Revision 2, “Revise Applicability of BWR [Boiling Water Reactor]/4 TS [Technical Specification] 3.6.2.5 and TS 3.6.3.2,” using the Consolidated Line Item Improvement Process. Specifically, the amendment would revise FitzPatrick TS 3.6.2.4, “Drywell-to-Suppression Chamber Differential Pressure,” and TS 3.6.3.1, “Primary Containment Oxygen Concentration,” and present the requirements in a manner more consistent with the Standard Technical Specifications format and content.
Date & Cite of Federal Register Individual Notice | 1/29/2020; 85 FR 5256.
Expiration Dates for Public Comments & Hearing Requests | 2/28/2020 (comments); 3/30/2020 (hearings).
Docket Nos. | 50-333.

Dated at Rockville, Maryland, this 18th day of February 2020.
For the Nuclear Regulatory Commission.
Mohamed K. Shams,
Deputy Director, Division of Operating Reactor Licensing, Office of Nuclear Reactor Regulation.

[FR Doc. 2020-03493 Filed 2-24-20; 8:45 am]

BILLING CODE 7590-01-P